DEPARTMENT OF ENERGY

Assistance to Foreign Atomic Energy Activities Secretarial Determination

AGENCY: National Nuclear Security Administration (NNSA), Department of Energy (DOE).

ACTION: Notice.

SUMMARY: On September 4, 2025, the Secretary of Energy (Secretary) issued a Determination adding the Philippines and Singapore to the generally authorized destinations list for exports of controlled nuclear technology and assistance under DOE's regulation on Assistance to Foreign Atomic Energy Activities at 10 CFR part 810. Accordingly, DOE is publishing this Determination.

FOR FURTHER INFORMATION CONTACT: Mr. Richard Goorevich, Assistant Deputy Administrator, Office of Nonproliferation and Arms Control (NPAC), National Nuclear Security Administration, Department of Energy, 1000 Independence Avenue SW, Washington, DC 20585, telephone (202) 586-6836, richard.goorevich@nnsa.doe.gov; Mr. Stephen Markus, Office of the General Counsel, GC-74, Department of Energy, 1000 Independence Avenue SW, Washington, DC 20585, telephone (240) 243-3387, stephen.markus@hq.doe.gov; or Mr. Zachary Stern, Office of the General Counsel, National Nuclear Security Administration, Department of Energy, 1000 Independence Avenue SW, Washington, DC 20585, telephone (202) 586-8627, zachary.stern@nnsa.doe.gov.

SUPPLEMENTARY INFORMATION: On September 4, 2025, the Secretary issued a determination adding the Philippines and Singapore to the generally authorized destinations list for exports of controlled nuclear technology and assistance under DOE's regulation on Assistance to Foreign Atomic Energy Activities at 10 Code of Federal Regulations (CFR) part 810 (part 810). The text of the Determination is reprinted below. Section 57 b.(2) of the Atomic Energy Act of 1954 (AEA), as amended (42 U.S.C. 2077(b)(2)), enables peaceful nuclear trade by helping to assure that nuclear technologies exported from the United States will not be used for non-peaceful purposes.

Part 810 implements section 57 b.(2) of the AEA, pursuant to which the Secretary has granted a general authorization for certain categories of activities, which the Secretary has found to be non-inimical to the interest of the United States—including assistance or transfers of certain controlled technology to the “generally authorized destinations” listed in appendix A to part 810.

Signing Authority

This document of the Department of Energy was signed on September 12, 2025, by Richard Goorevich, Assistant Deputy Administrator, Office of Nonproliferation and Arms Control, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy.

This administrative process in no way alters the legal effect of this document upon publication in the Federal Register.

Signed in Washington, DC on September 12, 2025.
Treena V. Garrett,
Federal Register Liaison Officer, U.S. Department of Energy.

APPENDIX

Set forth below is the full text of the Secretarial Determination:

Determination and Authorization Pursuant to Section 57 b.(2) of the Atomic Energy Act of 1954, as Amended, Regarding Exports of Nuclear Technology and Assistance to the Philippines and Singapore

Having considered the recommendation of the Department of Energy's National Nuclear Security Administration (DOE/NNSA), the U.S. Department of State's concurrence, and the consultations with the U.S. Departments of Defense and Commerce and the U.S. Nuclear Regulatory Commission, I have determined pursuant to section 57 b.(2) of the Atomic Energy Act of 1954, as amended, that a general authorization under DOE's regulations at 10 CFR Part 810 (Part 810) for exports of Part 810-controlled nuclear technology and assistance to the Philippines and Singapore will not be inimical to the interest of the United States, provided that no sensitive nuclear technology or activities described in 10 CFR 810.7, Activities Requiring Specific Authorization, are involved.

Whether a destination is determined to be generally or specifically authorized depends on several factors, including the existence of a peaceful nuclear cooperation agreement (123 agreement) with the United States. The Agreement for Cooperation Between the Government of the United States of America and the Government of the Republic of the Philippines Concerning Peaceful Uses of Nuclear Energy was signed in San Francisco, California, on November 16, 2023, and entered into force on July 2, 2024. The Agreement for Cooperation between the Government of the United States of America and the Government of the Republic of Singapore Concerning Peaceful Uses of Nuclear Energy was signed in Singapore on July 31, 2024, and entered into force on December 12, 2024. As such, and in consideration of the relevant factors, I have determined that general authorization status for the Philippines and Singapore to cover exports of Part 810-controlled nuclear technology and assistance under 10 CFR 810.6(a), Generally Authorized Activities, meets the non-inimicality standard.

I therefore grant the Philippines and Singapore status as generally authorized destinations under 10 CFR 810.6(a).

Accordingly, as of the date on which this Determination is issued, all currently issued specific authorizations pursuant to 10 CFR 810.7(a) for exports of Part 810-controlled nuclear technology and assistance to the Philippines and Singapore are eligible for the general authorization under 10 CFR 810.6(a), subject to the reporting requirements described in 10 CFR 810.12(e), Reports. Initial reporting in accordance with 10 CFR 810.12(e) may also serve to satisfy reporting requirements under 10 CFR 810.12(b) if specified accordingly. Activities subject to 10 CFR 810.7(b)-(c) continue to require specific authorization and separate reporting.

[FR Doc. 2025-17866 Filed 9-15-25; 8:45 am]

BILLING CODE 6450-01-P